ENVIRONMENTAL PROTECTION AGENCY

[EPA-HQ-OAR-2008-0820; FRL-8746-4]

Proposed Approval of the Central Characterization Project's Remote-Handled Transuranic Waste Characterization Program at Oak Ridge National Laboratory

AGENCY: Environment Protection Agency.

ACTION: Notice of availability; opening of public comment period.

SUMMARY: The Environmental Protection Agency (EPA or we) is announcing the availability of, and soliciting public comments for 45 days on, the proposed approval of the radioactive, remote-handled (RH), transuranic (TRU) waste characterization program implemented by the Central Characterization Project (CCP) at Oak Ridge National Laboratory (ORNL) in Oak Ridge, Tennessee. This waste is intended for disposal at the Waste Isolation Pilot Plant (WIPP) in New Mexico.

In accordance with the WIPP Compliance Criteria, EPA evaluated the characterization of RH TRU debris waste from ORNL-CCP during an inspection conducted on June 30—July 2, 2008. Using the systems and processes developed as part of the U.S. Department of Energy's (DOE's) Carlsbad Field Office (CBFO) program, EPA verified whether DOE could adequately characterize RH TRU waste consistent with the Compliance Criteria. The results of EPA's evaluation of ORNL-CCP's RH program and its proposed approval are described in the Agency's inspection report, which is available for review in the public dockets listed in ADDRESSES. We will consider public comments received on or before the due date mentioned in DATES.

This notice summarizes the waste characterization processes evaluated by EPA and EPA's proposed approval. As required by the 40 CFR 194.8, at the end of a 45-day comment period EPA will evaluate public comments received, and if appropriate, finalize the reports responding to the relevant public comments, and issue a final report and approval letter to DOE.

DATES: Comments must be received on or before January 12, 2009.

ADDRESSES: Submit your comments, identified by Docket ID No. EPA-HQ-OAR-2008-0820, by one of the following methods:

• www.regulations.gov: Follow the on-line instructions for submitting comments.

• E-mail: to a-and-r-docket@epa.gov

• Fax: 202-566-1741

• Mail: Air and Radiation Docket and Information Center, Environmental Protection Agency, Mailcode: 6102T, 1200 Pennsylvania Ave., NW., Washington, DC 20460.

Instructions: Direct your comments to Attn: Docket ID No. EPA-HQ-OAR-2008-0820. The Agency's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically at www.regulations.gov. As provided in EPA's regulations at 40 CFR part 2, and in accordance with normal EPA docket procedures, if copies of any docket materials are requested, a reasonable fee may be charged for photocopying.

FOR FURTHER INFORMATION CONTACT: Rajani Joglekar or Ed Feltcorn, Radiation Protection Division, Center for Waste Management and Regulation, Mail Code 6608J, U.S. Environmental Protection Agency, 1200 Pennsylvania Avenue, Washington, DC, 20460; telephone number: 202-343-9601; fax number: 202-343-2305; e-mail address: joglekar.rajani@epa.gov or feltcorn.ed@epa.gov.

SUPPLEMENTARY INFORMATION:

I. General Information

A. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP, near Carlsbad in southeastern New Mexico, as a deep geologic repository for disposal of TRU radioactive waste. As defined by the WIPP Land Withdrawal Act (LWA) of 1992 (Pub. L. 102-579), as amended (Pub. L. 104-201), TRU waste consists of materials that have atomic numbers greater than 92 (with half-lives greater than twenty years), in concentrations greater than 100 nanocuries of alpha-emitting TRU isotopes per gram of waste. Much of the existing TRU waste consists of items contaminated during the production of nuclear weapons, such as rags, equipment, tools, and sludges.

TRU waste is itself divided into two categories, based on its level of radioactivity. Contact-handled (CH) TRU waste accounts for about 97 percent of the volume of TRU waste currently destined for the WIPP. It is packaged in 55-gallon metal drums or in metal boxes and can be handled under controlled conditions without any shielding beyond the container itself. The maximum radiation dose at the surface of a CH TRU waste container is 200 millirems per hour. CH waste primarily emits alpha particles that are easily shielded by a sheet of paper or the outer layer of a person's skin.

Remote-handled (RH) TRU waste emits more radiation than CH TRU waste and must therefore be both handled and transported in shielded casks. Surface radiation levels of unshielded containers of remote-handled transuranic waste exceed 200 millirems per hour. RH waste primarily emits gamma radiation, which is very penetrating and requires concrete, lead, or steel to block it.

On May 13, 1998, EPA issued a final certification of compliance for the WIPP facility. The final rule was published in the Federal Register on May 18, 1998 (63 FR 27354). EPA officially recertified WIPP on March 29, 2006 (71 FR 18015). Both the certification and recertification determined that WIPP complies with the Agency's radioactive waste disposal regulations at 40 CFR part 191, subparts B and C, and is therefore safe to contain TRU waste.

The final WIPP certification decision includes conditions that (1) prohibit shipment of TRU waste for disposal at WIPP from any site other than the Los Alamos National Laboratories (LANL) until the EPA determines that the site has established and executed a quality assurance program, in accordance with §§ 194.22(a)(2)(i), 194.24(c)(3), and 194.24(c)(5) for waste characterization activities and assumptions (Condition 2 of Appendix A to 40 CFR part 194); and (2) (with the exception of specific, limited waste streams and equipment at LANL) prohibit shipment of TRU waste for disposal at WIPP (from LANL or any other site) until EPA has approved the procedures developed to comply with the waste characterization requirements of § 194.22(c)(4) (Condition 3 of Appendix A to 40 CFR part 194). The EPA's approval process for waste generator sites is described in § 194.8 (revised July 2004).

Condition 3 of the WIPP Certification Decision requires EPA to conduct independent inspections at DOE's waste generator/storage sites of their TRU waste characterization capabilities before approving their program and the waste for disposal at the WIPP. EPA's inspection and approval process gives EPA (a) discretion in establishing technical priorities, (b) the ability to accommodate variation in the site's waste characterization capabilities, and (c) flexibility in scheduling site waste characterization inspections.

As described in Section 194.8(b), EPA's baseline inspections evaluate each waste characterization process component (equipment, procedures, and personnel training/experience) for its adequacy and appropriateness in characterizing TRU waste destined for disposal at WIPP. During an inspection, the site demonstrates its capabilities to characterize TRU waste(s) and its ability to comply with the regulatory limits and tracking requirements under (194.24. A baseline inspection may describe any limitations on approved waste streams or waste characterization processes [§ 194.8(b)(2)(iii)]. In addition, a baseline inspection approval must specify what subsequent waste characterization program changes or expansion should be reported to EPA [§ 194.8(b)(4)]. The Agency is required to assign Tier 1 (T1) and Tier 2 (T2) designations to the reportable changes depending on their potential impact on data quality. A T1 designation requires that the site must notify EPA of proposed changes to the approved components of an individual waste characterization process (such as radioassay equipment or personnel), and EPA must also approve the change before it can be implemented. A waste characterization element with a T2 designation allows the site to implement changes to the approved components of individual waste characterization processes (such as visual examination procedures) but requires EPA notification. The Agency may choose to inspect the site to evaluate technical adequacy before approval. EPA inspections conducted to evaluate T1 or T2 changes are follow-up inspections under the authority of § 194.24(h). In addition to the follow-up inspections, if warranted, EPA may opt to conduct continued compliance inspections at TRU waste sites with a baseline approval under the authority of § 194.24(h).

The site inspection and approval process outlined in § 194.8 requires EPA to issue a Federal Register notice proposing the baseline compliance decision, docket the inspection report for public review, and seek public comment on the proposed decision for a period of 45 days. The report must describe the waste characterization processes EPA inspected at the site, as well as their compliance with § 194.24 requirements.

III. Proposed Baseline Compliance Decision

EPA has performed a baseline inspection of RH TRU waste characterization activities at ORNL-CCP (EPA Inspection No. EPA-ORNL-CCP-RH-4.08-8). The purpose of EPA's inspection was to verify that the waste characterization program implemented at ORNL-CCP for characterizing RH TRU, retrievably-stored, debris waste is technically adequate and meets the regulatory requirements at 40 CFR 194.24.

The RH waste that DOE is proposing for WIPP disposal is generated from operation of the Radiochemical Engineering Development Center (REDC) hot cell laboratory at ORNL. The REDC was used primarily to recover and purify curium for fabrication into targets. The same facility and apparatus were used to separate, purify and store transcurium ¹ radionuclides produced by irradiation of curium targets in the ORNL High Flux Isotope Reactor (HFIR) from 1991 until February 2007 for a variety of commercial and federal applications. The REDC also processed Mark-42 target assemblies to recover plutonium, americium and curium isotopes that were shipped to the Los Alamos National Laboratory (LANL). A target is a material that was placed within the HFIR primarily for defense programs (see attached inspection report for more information on this topic).

¹ Transcurium isotopes are elements with atomic numbers (No.) greater than that of Curium (Cm), 96, i.e., berkelium (Bk), atomic No. 97; californium (Cf), atomic No. 98; einsteinium (Es), atomic No. 99; fermium (Fm), atomic No. 100; and mendelevium (Md), atomic No. 101. By definition, these are potentially TRU, depending on their radioactive emission (alpha, beta, or gamma) and half-life, even though they may contain small or immeasurable concentrations of plutonium and/or americium isotopes normally associated with TRU wastes.

ORNL-CCP stores RH waste from the REDC in concrete casks, boxes, and drums at ORNL. These wastes are transferred to the TRU Waste Processing Center (TWPC) hot cells for repackaging into 55-gallon (208-liter) drums for characterization. ORNL-CCP was expecting EPA to evaluate for approval RH debris waste from three time periods (April 1972-November 1978, December 1978-October 1991, and November 1991-February 2007). Early in the inspection, EPA inspectors concluded that ORNL—CCP had done limited characterization work for the first two time periods and the available information for the earlier periods was not complete. As a result, EPA inspectors informed the Carlsbad Area Field Office (CBFO) and ORNL-CCP that the scope of the inspection would only cover debris waste generated from November 1991-February 2007. Today's proposed baseline approval, therefore, is limited to retrievably-stored RH TRU debris wastes that were generated during this specific time frame.

ORNL initially stored these wastes in 32 concrete casks. ORNL-CCP presented preliminary information regarding RH TRU debris wastes that had been generated in two other time periods; the Pre-Solvent Extraction Test Facility (SETF) period from April 1972-November 1978 and the SETF period from December 1978-October 1991. At the time of this inspection, characterization of the Pre-SETF and SETF wastes had not begun and there was insufficient objective evidence to support their approval. ORNL-CCP has stated that they will present these wastes for EPA approval in the future and EPA will evaluate each of these as Tier 1 (T1) changes in accordance with the tiering described in the accompanying inspection report.

The EPA inspection team identified four concerns related to waste characterization processes ORNL-CCP had implemented to characterize retrievably-stored RH debris waste (see Attachment B of the accompanying inspection report). ORNL-CCP revised specific documents to address the concerns and submitted them for EPA review following the initial onsite inspection. The EPA inspection team completed their review of the revised documents and determined that the revised documents adequately addressed all aspects of the four EPA concerns.

EPA has determined that the ORNL-CCP RH waste characterization program was technically adequate and that all concerns have been resolved. Therefore, EPA is proposing to approve the ORNL-CCP RH waste characterization program for ORNL RH Waste Stream OR-REDC-RH-HET that was evaluated during this baseline inspection, as described and documented in the accompanying inspection report. The proposed approval includes the following:

(1) The AK process for the RH retrievably-stored TRU debris waste stream designated as Waste Stream OR-REDC-RH-HET that was generated from REDC activities conducted between November 1991 and February 2007 that is currently stored at ORNL and will be repackaged into 55-gallon drums.

(2) The radiological characterization process using DTC and scaling factors for assigning radionuclide values to Waste Stream OR-REDC-RH-HET that is documented in CCP-AK-ORNL-501, Revisions 0 and 1, and detailed in this report.

(3) The VE process to identify waste material parameters and the physical form of the waste.

(4) The WWIS to submit data for both characterization and certification for RH TRU waste.

(5) The attainment of pertinent data quality objectives (DQOs).

ORNL-CCP must report and receive EPA approval of any Tier 1 (T1) changes to the ORNL-CCP waste characterization activities from the date of the baseline inspection, and ORNL-CCP must notify EPA regarding Tier 2 (T2) changes according to Table 1, below. Table 1 in this report closely follows the format used in recent CH and RH baseline approval reports.

Table 1—Tiering of RH TRU Waste Characterization Processes Implemented by ORNL-CCP, Based on June 30-July 2, 2008 Baseline Inspection
RH WC Process elements | ORNL-CCP RH WC Process—T1 Changes | ORNL—CCP RH WC Process—T2 Changes ᵃ
Acceptable Knowledge (AK) | Addition of any new waste streams not approved under this baseline (AK-1) | Notification to EPA when updates are made to the documents included in AK-1, AK-2, AK-3, AK-4, AK-6, AK-9, AK-13, AK-14 and AK-15, outside of the specific T1 changes listed in the previous column.
| Modification of the approved population of the OR-REDC-RH-HET wastes to include any containers not included in the CCP-AK-ORNL-501, Revision 1 analysis (AK-1) | Notification to EPA of availability of and/or revisions to Add Container Memoranda (AK-3).
| Modification(s) resulting from incorporation of new information specific to the approved RH debris waste (OR-REDC-RH-HET) population to the following documents: CSSF (AK-1 and AK-2); CCP-AK-ORNL-501 (AK-1); CCP-AK-ORNL-500 (AK-2 and AK-9); AKSR (AK-6); CTP (AK-9); AK Accuracy Reports (AK-1 and AK-15); and the WSPF (AK-14) | Notification to EPA of availability of documentation of RH sample reclassified as CH and subject to confirmatory analyses via NDA (AK-9).
| Implementation of load management (AK-16) | Notification to EPA of availability of DRF(s) or data limitation information pertaining to CCP's assessment of ORNL's original radiological characterization of wastes generated post-1999 (AK-13).
Radiological Characterization, Dose-to-Curie (DTC) and the application of radionuclide-specific scaling factors | Application of new scaling factors for isotopic determination other than those documented in CCP-AK-ORNL-501 (RC-3) | Revisions of CCP-AK-ORNL-501 or CCP-TP-504 that require CBFO approval (RC-3), (RC-4), (RC-8).
| Use of any alternate radiological characterization procedure other than DTC, with established scaling factors as documented in CCP-TP-504, Revision 6, or substantive modification of the DTC procedure ᵇ (RC-4) | Results from the any RH TRU container(s) that qualify as CH and are subject to NDA (RC-8).
| Any new waste stream not approved under this baseline or addition of containers to Waste Stream OR-REDC-RH-HET that requires changing the documented radionuclide scaling factors in CCP-AK-ORNL-501 (RC-4) |
Visual Examination (VE) | Implementation of VE by any system other than two operators performing VE ᶜ (VE-2) | Changes to VE procedure(s) that require CBFO approval (VE-1). Addition of new Sample Category Groups to the VE process that is subject to this proposed approval (VE-2).
WIPP Waste Information System (WWIS) | None at this time | Changes to WWIS procedure(s) that require CBFO approval (WWIS-1).
|  | Changes to the Excel spreadsheet titled WWIS Data Entry Summary Characterization and Certification (WWIS-2).
ᵃ Upon receiving EPA approval, ORNL-CCP will report all T2 changes to EPA at the end of each fiscal quarter.
ᵇ “Substantive changes” means changes with the potential to impact the site's waste characterization activities or documentation thereof, excluding changes that are solely related to ES&H, nuclear safety, or RCRA, or that are editorial in nature.
ᶜ Modifications to approved equipment include all changes with the potential to affect NDA data relative to waste isolation and exclude minor changes, such as the addition of safety-related equipment.

IV. Availability of the Baseline Inspection Report for Public Comment

EPA has placed the report discussing the results of the Agency's inspection of the ORNL-CCP Site in the public docket as described in ADDRESSES. In accordance with 40 CFR 194.8, EPA is providing the public 45 days to comment on these documents. The Agency requests comments on the proposed approval decision, as described in the inspection report. EPA will accept public comment on this notice and supplemental information as described in Section 1.B. above. EPA will not make a determination of compliance before the 45-day comment period ends. At the end of the public comment period, EPA will evaluate all relevant public comments and revise the inspection report as necessary. If appropriate, the Agency will then issue a final approval letter and inspection report, both of which will be posted on the WIPP Web site.

Information on the certification decision is filed in the official EPA Air Docket, Docket No. A-93-02 and is available for review in Washington, DC, and at the three EPA WIPP informational docket locations in Albuquerque, Carlsbad, and Santa Fe, New Mexico. The dockets in New Mexico contain only major items from the official Air Docket in Washington, DC, plus those documents added to the official Air Docket since the October 1992 enactment of the WIPP LWA.

Dated: November 18, 2008.
Elizabeth Cotsworth,
Director, Office of Radiation and Indoor Air.

[FR Doc. E8-28124 Filed 11-25-08; 8:45 am]

BILLING CODE 6560-50-P